SECURITIES AND EXCHANGE COMMISSION

Sunshine Act Meeting

Federal Register Citation of Previous Announcement: [71 FR 27014, May 9, 2006].

STATUS: Closed meeting.

PLACE: 100 F Street, NE., Washington, DC.

DATE AND TIME OF PREVIOUSLY ANNOUNCED MEETING: Thursday, May 11, 2006 at 1 p.m.

Change in the Meeting: Additional items.

The following items will also be considered during the 1 p.m. Closed Meeting scheduled for Thursday, May 11, 2006: Litigation matters; regulatory matters involving financial institutions; other matters related to enforcement proceedings; and an adjudicatory matter.

Commissioner Glassman, as duty officer, determined that no earlier notice thereof was possible.

At times, changes in Commission priorities require alterations in the scheduling of meeting items. For further information and to ascertain what, if any, matters have been added, deleted or postponed, please contact the Office of the Secretary at (202) 551-5400.

Dated: May 10, 2006.
J. Lynn Taylor,
Assistant Secretary.

[FR Doc. 06-4585 Filed 5-11-06; 3:55 pm]

BILLING CODE 8010-01-P